SECURITIES AND EXCHANGE COMMISSION

[Release No. 34-69399A; File No. SR-CBOE-2013-039]

Self-Regulatory Organizations; Notice of Filing and Immediate Effectiveness of Proposed Rule Change by Chicago Board Options Exchange, Incorporated Relating to Fees for the BBO Data Feed for Securities Traded on the CBOE Stock Exchange; Correction

April 30, 2013.

AGENCY: Securities and Exchange Commission.

ACTION: Notice; correction.

SUMMARY: The Securities and Exchange Commission published a document in the Federal Register of April 24, 2013 concerning a Notice of Filing and Immediate Effectiveness of Proposed Rule Change by Chicago Board Options Exchange, Incorporated Relating to Fees for the BBO Data Feed for Securities Traded on the CBOE Stock Exchange. The document mistakenly includes a reference to NYSE Arca, Inc. in the heading.

FOR FURTHER INFORMATION CONTACT: Jonathan Balcom, Division of Trading and Markets, Securities and Exchange Commission, 100 F Street NE., Washington, DC 20549, (202) 551-5737.

Correction

In the Federal Register of April 24, 2013, in FR Doc. 2013-09627, on page 24258, in the 45th line of the third column, the heading is corrected to delete “NYSE Arca, Inc.”

Kevin M. O'Neill,
Deputy Secretary.

[FR Doc. 2013-10627 Filed 5-3-13; 8:45 am]

BILLING CODE 8011-01-P